NATIONAL ARCHIVES AND RECORDS ADMINISTRATION

Senior Executive Service (SES) Performance Review Board; Members

AGENCY: National Archives and Records Administration.

ACTION: Notice; SES Performance Review Board.

SUMMARY: Notice is hereby given of the appointment of members of the National Archives and Records Administration (NARA) Performance Review Board.

DATES: Effective Date: This appointment is effective on August 12, 2011.

FOR FURTHER INFORMATION CONTACT: Pamela S. Pope, Office of Human Capital (H), National Archives and Records Administration, 1 Archives Drive, St. Louis, MO 63138, (314) 801-0882.

SUPPLEMENTARY INFORMATION: Section 4314(c) of Title 5, U.S.C., requires each agency to establish, in accordance with regulations prescribed by the Office of Personnel Management, one or more SES Performance Review Boards. The Board shall review the initial appraisal of a senior executive's performance by the supervisor and recommend final action to the appointing authority regarding matters related to senior executive performance.

The members of the Performance Review Board for the National Archives and Records Administration are: Debra Steidel Wall, Deputy Archivist of the United States, Thomas E. Mills, Chief Operating Officer, Analisa J. Archer, Chief Human Capital Officer, and Micah M. Cheatham, Chief Financial Officer. These appointments supersede all previous appointments.

Dated: August 9, 2011.
David S. Ferriero,
Archivist of the United States.

[FR Doc. 2011-20676 Filed 8-11-11; 8:45 am]

BILLING CODE 7515-01-P